DEPARTMENT OF TRANSPORTATION

National Highway Traffic Safety Administration

Discretionary Cooperative Agreement Program To Support Project To Increase Hispanic Safety Belt Use

AGENCY: DOT, National Highway Traffic Safety Administration (NHTSA).

ACTION: Notice; Announcement of a discretionary cooperative agreement(s) to support an occupant protection campaign to increase Hispanic safety belt use.

SUMMARY: The National Highway Traffic Safety Administration (NHTSA) announces a discretionary cooperative agreement opportunity to solicit support from organizations that serve the Hispanic community to implement a demonstration program to increase safety belt use and reduce fatalities and injuries among the Hispanic population. NHTSA anticipates funding an organization for a period of two years to administer a demonstration project in approximately two sites in a county or metropolitan area with a large concentration of Hispanic or Spanish-speaking new immigrants. The sites will be determined jointly by NHTSA and the successful applicant. This Notice solicits applicable State agencies (e.g., highway safety offices, motor vehicle administrations, law enforcement agencies, and others) non-profit, for-profit or not-for-profit organizations, or a consortium of agencies/organizations for funds to be available in fiscal year (FY) 2004. Interested applicants must submit an application package meeting the requirements set forth in the application section of this Notice. NHTSA will evaluate the applications to determine which proposal will receive funding under this announcement.

DATES: Applications must be received no later than August 12, 2004, at 1 p.m. Eastern Standard Time.

ADDRESSES: Application must be submitted to the U.S. Department of Transportation, National Highway Traffic Safety Administration, Office of Contracts and Procurements (NPO-220), ATTN: April L. Jennings, 400 7th Street SW., Room 5301, Washington, DC 20590. All applicants must include reference to NHTSA Cooperative Agreement Number DTNH22-04-H-05137.

FOR FURTHER INFORMATION CONTACT: Questions may be directed to Ms. April L. Jennings, Office of Contracts and Procurement, NPO-220, 400 Seventh Street, SW., 20590 by e-mail (preferred method) at April.Jennings@NHTSA.DOT.GOV or by phone at (202) 366-9571 no later than August 9, 2004. Interested parties are advised that no separate application packages exist beyond the contents of this announcement.

SUPPLEMENTARY INFORMATION:

Background

The National Highway Traffic Safety Administration (NHTSA) is the Federal agency assigned to implement the National Initiative for Increasing Seat Belt Use Nationwide, being carried out under the Buckle Up America Campaign. Safety belts have proven to be the most effective occupant protection device in saving lives and preventing injuries in motor vehicle crashes.

The use of safety belts in motor vehicles is less common in minority and low-income populations than in the general population. Motor vehicle crashes are the leading cause of death for Hispanics from ages 1-34 years old. A recent medical study showed that Hispanic drivers have a lower safety belt use than non-Hispanic whites, with correspondingly higher fatality rates in traffic crashes. These factors necessitate programs to increase safety belt use in this group.

Hispanics currently make up 13 percent of the U.S. population and are projected to make up 24 percent by the year 2050. As the percentage of Hispanics increases, it is anticipated that a greater proportion of future crash injuries and fatalities will come from the Hispanic community.

NHTSA's mission is to ensure that everyone is buckled up, and to develop and implement national activities that will generate positive change in safety belt and child safety seat use. NHTSA programs are tailored to meet the unique needs of communities, are evidence-based and use proven strategies, and rely on close collaborations and partnerships with community-based service providers.

As part of this on-going effort to define strategies that work best to increase safety belt use in Hispanics communities, NHTSA announces this demonstration program to explore ways to reduce injuries and fatalities among this group. Through this Cooperative Agreement, NHTSA anticipates increasing safety belt use in communities with large Hispanic populations and identifying effective strategies that can be replicated in other Hispanic communities across the Nation.

Objective

The objective of this demonstration program is to increase safety belt use among Hispanics. This will be accomplished through the selection of an organization to develop, oversee and evaluate new, culturally appropriate, occupant protection programs to raise safety belt and child restraint use within Hispanic communities. The program will be based in communities with large concentrations of Hispanics and will be developed to affect long-term behavioral changes. At the conclusion of this demonstration program, a detailed report outlining the strategies, successes, and challenges of the program will be compiled. The report will describe model strategies and provide guidance on how to raise safety belt and child restraint use in Hispanic communities.

Strategies

To assist the demonstration sites in determining the most appropriate and effective strategies to increase safety belt use in Hispanic populations, the successful applicant will have the ability to assess a variety of education and enforcement models. The proposed strategies must include peer-to-peer (immigrant to immigrant) education and high-visibility enforcement. Other approaches might include media messages, faith-based programs, or other programs proposed by the successful applicant. The applicant may consider a variety of program designs, however, the high visibility enforcement and the peer-to-peer education component must constitute part of the applicant's planned activities at the majority of sites funded under this Cooperative Agreement.

Program Oversight

Under this Cooperative Agreement, the successful applicant will be responsible for managing the demonstration projects in cities with a large Hispanic population. NHTSA will work closely with the successful applicant to provide necessary technical assistance.

Evaluation of Programs

The successful applicant will be responsible for collecting information about program activities, resources, and outcomes. At a minimum, the successful applicant will conduct a process evaluation to document activities, materials, education activity, enforcement activity, and media activities accomplished under the program. The ultimate goal is to increase safety belt use among the Hispanic population. To determine success of this goal, outcome measures must include pre and post safety belt observation surveys to measure changes in safety belt usage rates as a result of the program. NHTSA also will require public perception surveys to assess public knowledge and awareness of the program.

NHTSA will select an independent evaluator to coordinate an impact evaluation that will document changes in safety belt use among Hispanics resulting from program activity. The successful applicant must be willing to work with NHTSA evaluators, who will work with the State to identify the most appropriate and effective data collection sources and evaluation methods. Measuring public awareness will track the extent to which the successful applicant used education and media and other activities to increase awareness of the intended audience.

Availability of Funds and Period of Support

Contingent on the availability of funds, the Cooperative Agreement awarded under this notice will be for a performance period not to exceed 24 months (two-years), with 20 months of planning and implementation, and four months for evaluation and preparation of the final report. A total of $600,000 is currently available to support this demonstration effort. Applicants should submit projects and associated budgets for the two-year performance period. To effectively implement the model programs, the grantee should allocate at least 85% of the available funds for the selected community projects and should also allocate 15% of the available funds for evaluation. The award for this initiative is estimated to occur no later than September 2004.

NHTSA Involvement

NHTSA will be involved in all activities undertaken as part of the cooperative agreement program and will:

1. Provide a Contracting Officer's Technical Representative (COTR) to participate in the planning and management of the Cooperative Agreement and to coordinate activities between the Grantee(s) and NHTSA during the period of performance, and to serve as a liaison between NHTSA Headquarters, NHTSA Regional offices and the Grantee.

2. Provide information and technical assistance from other government sources and available resources as determined appropriate by the COTR.

Successful Applicant Responsibilities

NHTSA intends to replicate successful strategies and activities conducted pursuant to this Cooperative Agreement elsewhere throughout the Nation. Therefore, this project will be closely monitored and its results shared with other programs and constituencies. NHTSA will work with the successful applicant to assure that the necessary components of the project are in place to fulfill this goal. Successful applicant responsibilities include:

1. Briefing

Participate with key NHTSA resource staff in the initial briefing meeting, which will take place after the Cooperative Agreement is awarded. The purpose of the meeting will be to review the project's objectives, planned course of action, successful applicant responsibilities, milestones and deliverables, and to resolve any differences between the Government's technical approach and the successful applicant's approach. The successful applicant shall first conduct a short briefing (20 to 30 minutes) describing the organization's planned approach. The successful applicant shall provide attendees with appropriate briefing materials. After the prepared briefing, the successful applicant and NHTSA personnel will discuss specific details of the project.

2. Personnel and Equipment

Provide necessary skilled personnel and equipment needed for performing the work under this agreement. Assign a principal manager as the point of contact for NHTSA's Contracting Officer's Technical Representative (COTR) for the purpose of ongoing coordination and review of work under this agreement.

3. Site Selection

Identify, jointly with NHTSA, the two to four communities/sites where the successful applicant will administer demonstration projects, based on NHTSA's preliminary identification of locations with large Hispanic populations. The Hispanic population shall reside in a county or metropolitan area that has a high percentage of Hispanics.

4. Strategy Identification

Identify the behavior change strategies, including high-visibility enforcement, peer-to-peer education, and other strategies, to be implemented in the various sites as approved by NHTSA.

5. Program Oversight

The successful applicant will provide ongoing oversight and coordination over demonstration project personnel at the site(s) to ensure the quality of the programs.

6. Team Approach

Establish and maintain a highly credible internal and external team approach to prepare for any potential challenges presented by this demonstration project.

7. Evaluation

Work closely with an independent evaluator, selected by NHTSA, to coordinate the design and implementation of the project. The successful applicant will be responsible for collecting information about project activities, resources and outcomes. In partnership with NHTSA, the successful applicant will carryout a data collection and evaluation plan, as well as conduct a process evaluation to document the materials, the marketing, media and education activities, as well as applicable enforcement activities expanded on the project.

8. Report and Written Deliverables

Provide quarterly reports, annual summary reports, and a final report to the NHTSA COTR. Maintain accurate records of all internal and management discussions on planning, performance/implementation and evaluation activities related to this project. Accurate project records will assist in the replication of the successful approaches and processes identified as a result of this Cooperative Agreement.

Allowable Uses of Federal Funds

Allowable uses of Federal funds shall be governed by the relevant allowable cost section and cost principles referenced in 49 CFR Part 18—Department of Transportation Uniform Administrative Requirements for Grants and Cooperative Agreements to Community and Local Governments. Funds provided under this grant program shall be used to carry out the activities described in the project plan for which the grant is awarded.

Application Procedures

Each applicant must submit one original and three copies of the application package to: National Highway Traffic Safety Administration, Office of Contracts and Procurement (NPO-220), Attn: April L. Jennings, 400 Seventh Street, SW., Room 5301, Washington, DC 20590. An additional three copies will facilitate the review process, but are not required. The application may be single spaced, must be typed on one side of the page only, and must include a reference to NHTSA Cooperative Agreement Number DTNH22-04-H-05137. Unnecessarily elaborate applications beyond what is sufficient to present a complete and effective response to this invitation are not desired.

Only complete application packages received no later than July 30, 2004 at 1 pm Eastern Standard Time will be considered.

Application Contents

1. Cost Information

The application package must be submitted with OMB Standard Form 424, (Rev 9-2003, including SF 424-A and 424-B). (See Appendix A.) Application for Federal Assistance, with the required information filled in and the certifications required by 49 CFR Part 20 and by 49 CFR Part 29 and assurances signed. OMB forms are available for downloading and printing on the Internet at: http://www.whitehouse.gov/OMB/grants/index.html site. While the SF 424-A addresses budget information, and Section B identifies budget categories, the available space does not permit a level of detail that is sufficient to provide for a meaningful evaluation of the proposed costs. A supplemental budget sheet shall be provided which presents a detailed breakdown of the proposed costs, as well as any costs, which the applicant indicates will be contributed locally as matching funds. The total project effort including evaluation and reporting, (direct labor, including labor categories, level of effort, and rate; direct materials, including itemized equipment; travel and transportation, including projected trips and number of people traveling; and overhead) and any cost that the applicant proposes to contribute or obtain from any other sources in support of this effort.

2. Technical Proposal. In addition to the documents listed above, the applicant must include a project narrative statement, which provides the following information in separately labeled section with its submission:

• A technical proposal not to exceed 20 pages providing:

• A brief general description of the proposed demonstration sites' geographic and demographic population distribution, including the population estimates for Hispanics in these sites, any unique characteristics relevant to the State's Highway Safety Plan to increase safety belt use and any available information on Hispanics motor vehicle injuries and fatalities in the State, as well as Hispanics safety belt use rates and, awareness and attitudes toward safety belt use;

• A brief description of the principal goals and objectives of the proposed plan that articulates the potential to increase safety belt use rates within the population, with supporting rationale. This section must identify any proposed partnerships and include letters of support or intent to partner from the organization. Documentation of existing public and/or political support must also be included (e.g. endorsement of the Mayor, Community Police or Patrol, Association of Chief of Police, Community Medical Society, etc.);

• A detailed description of the activities to be implemented in the plan, including: the key strategies to be employed, the key features (e.g. participants, design, methodology); and a project plan that includes a listing of milestones in chronological order, to show the schedule of expected accomplishments and their target dates.

• Timeline/schedule of activities that demonstrates that the successful applicant will comply with NHTSA requests and Cooperative Agreement requirements in a timely manner;

• Documentation of the applicant's record keeping strategy, specifically, how information from the organization and demonstration sites will be organized, maintained and disseminated. This section shall describe how the project will be evaluated and what measures will be used to determine the outcomes of the activities in the project plan.

• A brief biography of each proposed staff person and sub-contractor, if known, and their respective responsibilities on the Demonstration Project and/or projects at individual sites; and;

• Work samples that demonstrate the required knowledge and skills necessary to implement this Demonstration Project. The applicant should provide example of experience working with the Hispanic community. The applicant should also provide evidence of experience with peer-to-peer education.

• Coordination/support letter from applicable state Highway Safety Office(s). All primary applicants and/or sub-grantees that will be conducting activity within a given State or Tribal community must include a letter of support from the applicable State Highway Safety Office with their application. In addition to the State Governor's Highway Safety Representative, Tribal applicants must also provide a letter from Indian Nation Governor's Highway Safety Representative, Bureau of Indian Affairs, Indian Highway Safety Program.

3. Past Performance and Financial Responsibility. To evaluate this information adequately, the Applicant shall provide the following information:

(i). Identify at least three references who can attest to the past performance history and quality of work provided by the Applicant on previous assistance agreements and/or contracts. In doing so, the Applicant shall provide the following information for each reference:

(a) Assistance Agreement/Contract Number;

(b) Title and brief description of Assistance Agreement/Contract;

(c) Name of organization, name of point of contact, telephone number, and E-mail address of point of contact at the organization with which the Applicant entered into an Assistance Agreement/Contract;

(d) Dollar value of Assistance Agreement/Contract;

(e) Any additional information, which the Applicant may provide to address the issue of past performance and financial responsibility.

(ii). The Applicant shall indicate if it has ever filed for bankruptcy, or has had any financial problems, which may affect, negatively, its ability to perform under this Assistance Agreement.

Review Procedures, Criteria and Evaluation Factors

Upon receipt of the application package, each package will be reviewed initially to ensure eligibility and that the applicant contains all of the items specified in the Application Contents Section of this announcement. An Evaluation Committee using the following evaluation criteria will then review applications (listed in descending order of importance).

Factor 1. Past Performance and Financial Responsibility (25 Percent)

The extent to which the proposed Grantee has fulfilled its performance and financial obligations on previous Assistance Agreements and/or Contracts will be evaluated. This evaluation will include:

(1) The proposed Grantee's record of complying with milestone and performance schedules applicable to previous Assistance Agreements and/or Contracts;

(2) The proposed Grantee's record of cooperation with the awarding agency under previous Assistance Agreements and/or Contracts;

(3) The degree to which the proposed Grantee efficiently and effectively utilized Assistance Agreement and/or Contract funding;

(4) The degree to which the proposed Grantee complied with the terms and conditions of previous Assistance Agreements and/or Contracts;

(5) The degree to which the proposed Grantee complied with applicable Office of Management and Budget (OMB) Circulars and/or the Federal Acquisition Regulation, on previous Assistance Agreements and/or Contracts;

(6) The level of financial stability possessed by the proposed Grantee.

Factor 2. Technical Plan (25 Percent)

The reasonableness, completeness, clarity, and feasibility of the offeror's approach to achieving the objectives of the project.

(1) The applicant must demonstrate an understanding of key issues and potential problems related to successful completion of the project, and have a plan for addressing potential problems.

(2)The applicant must demonstrate an understanding of information collection and evaluation techniques appropriate to this project, and specify how proposed information and data gathering techniques will be applied to attain quality results that meet the objectives of this project and how well the proposal incorporates work with NHTSA's evaluation team.

(3) The applicant must demonstrate the ability to organize, manage and or have contacts in the selected sites on the Hispanic community.

(4) The applicant must demonstrate ability to generate resources from the community to apply to the program.

(5) The applicant must create supporting rationale for the proposed budget demonstrating a reasonable use of resources.

Factor 3. Experience Implementing and Developing Safety Programs Directed to the Hispanic Community (25 Percent)

(1) The applicant must be part of, or have knowledge of, the Hispanic culture.

(2) The applicant must be able to provide peer-to-peer (immigrant to immigrant) education.

(3) The applicant must have and demonstrate extensive knowledge and experience working with the Hispanic community, or Hispanic organizations that can provide services to the Spanish-speaking community, taking into consideration variations in the Spanish language (familiarity with different Spanish dialects and regional slang), cultural differences, level of education and economic differences among Hispanics groups and other factors to successfully administer up to four community demonstration projects to raise safety belt use within the Hispanic community.

(4) The applicant must include working with communities where the Hispanic population is expanding rapidly or already has large new Hispanic immigrant population.

Factor 4. Project Staff Qualifications (15 Percent)

(1) The applicant shall provide the educational level, experience and availability of key project personal and the qualification of proposed staff.

(2) The applicant's staffing plan should be adequate to manage and implement the project.

(3) The applicant must demonstrate that they have the appropriate staff and the resources to implement an effective program.

Factor 5. Law Enforcement and Other Groups (10 Percent)

(1) The applicant must demonstrate the capability of working with law enforcement groups to promote safety belt use within the Hispanic community. This capability must include strategies on developing trust between law enforcement and Hispanic communities.

(2) The applicant must describe the degree to which they will engage and coordinate activities with the law enforcement community and how they will achieve law enforcement support and participation.

(3) The applicant should demonstrate wide-ranging support for its technical proposal from other state and community groups.

Terms and Conditions of the Award

1. Prior to award, each Grantee must comply with the certification requirements of 49 CFR Part 20, Department of Transportation New Restrictions on Lobbying, and 49 CFR Part 29, Department of Transportation Government-wide Debarment and Suspension (Non procurement) and Government wide Requirements for Drug Free Workplace (Grants).

2. Reporting Requirements and Deliverables:

a. Quarterly Progress Reports: Should include a summary of the previous quarter's activities and accomplishments, significant problems encountered or anticipated, an itemization of expenditures made during the quarter, and proposed activities for the upcoming quarter. Any decisions and actions required in the upcoming quarter should be included in the report. The Grantee(s) shall provide a progress report to the Contracting Officer's Technical Representative (COTR) every ninety (90) days following date of award, except when a final report is due.

b. Annual Summary Report: At the completion of each year of the Cooperative Agreement, the successful applicant will submit an annual summary report. The reports shall include a list of partners, materials developed and disseminated, and feedback from the field, as well as document and review the notable accomplishments of the year, evaluation results and recommendations for the future years' efforts.

c. Draft Final Report: The Grantee(s) shall prepare a Draft Final Report that includes a description of the projects conducted, including partners, overall program implementation, evaluation methodology and findings from the program evaluation. In terms of information transfer, it is important to know what worked and what did not work, under what circumstances, and what can be done to avoid potential problems in future projects. The Grantee(s) shall submit the Draft Final Report to the COTR 90 days prior to the end of the performance period. The COTR will review the draft report and provide comments to the Grantee(s) within 30 days of receipt of the document.

d. Final Report: The Grantee(s) shall revise the Draft Final Report to reflect the COTR's comments. The revised Draft Final Report shall be delivered to the COTR one (1) month before the end of the performance period. The comprehensive report shall detail the major activities, events, data collection, methodology, and best practices/strategies that can be replicated in other Hispanic communities. The successful applicant shall supply the COTR with:

—Four hard copies of the final document;

—A disk (or CD-ROM) of the report in Microsoft Word Format; and

—A redlined version of the Final Report reflecting changes made in response to the COTR's comments.

e. Briefings and Presentations: The Grantee(s) shall conduct a briefing with NHTSA officials and other invited parties in Washington, DC upon the completion of the project. An initial briefing and an interim briefing, approximately midway through the period of performance, may be required. The Grantee(s) shall prepare an article and submit it for publication in a professional journal. All articles and briefings will be submitted to NHTSA initially in draft format for review and comment. The Grantee(s) shall submit drafts to the COTR 30 days before the event date or publication submission date.

3. During the effective performance period of cooperative agreements awarded as a result of this announcement, the agreement shall be subject to the National Highway Traffic Safety Administration's General Provisions for Assistance Agreements dated July 1995.

Marilena Amoni,
Associate Administrator, Program Development and Delivery.

[FR Doc. 04-15764 Filed 7-12-04; 8:45 am]

BILLING CODE 4910-59-P